DEPARTMENT OF ENERGY

Federal Energy Regulatory Commission

[Project No. 2145-060-WA]

Public Utility District No. 1 of Chelan County; Notice of Designation of Certain Commission Personnel As Non-Decisional

November 3, 2005.

Commission staff members Vince Yearick (Office of Energy Projects; vince.yearick@ferc.gov, 202-502-6174) and Elizabeth Molloy (Office of the General Counsel, elizabeth.molly@ferc.gov, 202-502-8771) are assigned to help resolve environmental and other issues associated with the development of a comprehensive settlement agreement for the Rocky Reach Project.

As non-decisional staff, Mr. Yearick and Ms. Molloy will not participate in an advisory capacity in the Commission's review of any offer of settlement or settlement agreement, or deliberations concerning the disposition of the relicense application.

Different Commission advisory staff will be assigned to review any offer of settlement or settlement agreement, and process the relicense application, including providing advice to the Commission with respect to the agreement and application.

Non-decisional staff and advisory staff will be prohibited from communicating with one another concerning any filed settlement and relicense application for the project.

Magalie R. Salas,
Secretary.

[FR Doc. E5-6203 Filed 11-9-05; 8:45 am]

BILLING CODE 6717-01-P